DEPARTMENT OF THE INTERIOR

National Park Service

Final General Management Plan and Environmental Impact Statement, Governors Island National Monument, New York, NY.

AGENCY: National Park Service, Department of the Interior.

ACTION: Notice of availability.

SUMMARY: Pursuant to section 102(2)(C) of the National Environmental Policy Act of 1969, as amended, the National Park Service announces the availability of the Final General Management Plan and Environmental Impact Statement (GMP/EIS) for Governors Island National Monument, New York.

Consistent with National Park Service (NPS) laws, regulations, and policies, and the purpose of the National Monument, the Final GMP/EIS describes the NPS preferred alternative-Alternative D: Harbor Partnership-to guide the management of the National Monument over the next 15 to 20 years. The preferred alternative incorporates various management prescriptions to ensure protection, access and enjoyment of the park's resources.

The Final GMP/EIS describes the NPS preferred alternative and the potential environmental consequences of implementing the preferred alternative. Impact topics include the cultural, natural, and socioeconomic environments. The Final GMP/EIS contains NPS responses to public comments on the Draft GMP/EIS, and copies of agency correspondence and substantive comment letters.

DATES: The document will be available for public review on or about February 20, 2009. The National Park Service will execute a Record of Decision (ROD) no sooner than 30 days following publication by the Environmental Protection Agency of their Notice of Availability of the Final GMP/EIS.

ADDRESSES: The document will be available to the public in a variety of ways:

• An electronic version of the document can be viewed on the National Park Service Planning, Environment and Public Comment (PEPC) Web site at http://parkplanning.nps.gov.

• A downloadable PDF will be available on the park's Web site at http://www.nps.gov/gois.

• Printed copies (these are limited in quantity) and CD's can be requested by contacting the park at 212-825-3041.

• The document can be viewed in hardcopy form at the following locations:

Mid-Manhattan Library, 455 5th Avenue, New York, NY 10016.

Science, Industry and Business Library, 188 Madison Avenue, New York, NY 10016.

New Amsterdam Branch Library, 9 Murray Street, New York, NY 10007.

Bronx Library Center, 310 East Kingsbridge Road, New York, NY 10458.

St. George Library Center, 5 Central Avenue, Staten Island, NY 10301.

Business Library, 280 Cadman Plaza West at Tillary St., Brooklyn, NY 11201.

Carroll Gardens Library, 396 Clinton St. @ Union St., Brooklyn, NY 11231.

Central Library, Grand Army Plaza, Brooklyn, NY 11238.

Red Hook Library, 7 Wolcott St. at Dwight St., Brooklyn, NY 11231.

Central Library, 89-11 Merrick Boulevard, Jamaica, NY 11432.

Flushing Library, 41-17 Main Street, Flushing, NY 11355.

Jersey City Public Library, Documents Department, 472 Jersey Ave., Jersey City, NJ 07302.

Newark Public Library, 5 Washington St., P.O. Box 0630, Newark, NJ 07 101-0630.

New Jersey State Library, U.S. Documents, 185 W. State St., P.O. Box 520, Trenton, NJ 08625-0520.

SUPPLEMENTARY INFORMATION: The Draft GMP/TIS evaluated alternatives to guide the development and future management of the park over the next 20 years. Alternative A (No Action) provides a baseline evaluation of existing resource conditions, visitor use, facilities, and management at the park. The Action Alternatives (B and C) would enhance the preservation of the park's cultural and natural resources, while providing new opportunities for visitors. Alternative D, the agency's preferred alternative, would create a Harbor Center with partners as a hub of activities and a jumping-off point for visitors to explore New York Harbor.

The Draft GMP/EIS was available for public and agency review from January 16, 2008, through March 18, 2008. Copies of the document were sent to individuals, agencies, organizations, and local libraries. The document was also made available for review at the park and on the NPS Planning, Environment, and Public Comment Web site (http://parkplaiming.nps.gov). A public open house was held on February 27, 2008, and a public hearing was held on March 10, 2008. During the review period, the NPS accepted written and oral comments on the document; over six thousand comments were received. The NPS carefully reviewed all comments and prepared a Comment Response Report (Appendix I).

The Final General Management Plan (GMIP) sets forth a vision for the development and operation of Governors Island National Monument.

Dated: February 2, 2009.
Dennis R. Reidenbach,
Regional Director, Northeast Region, National Park Service.

[FR Doc. E9-7603 Filed 4-6-09; 8:45 am]

BILLING CODE 4312-14-M